DEPARTMENT OF THE INTERIOR

Bureau of Indian Affairs

[178A2100DD/AAKC001030/A0A501010.999900 253G]

Advisory Board for Exceptional Children; Public Meeting

AGENCY: Bureau of Indian Affairs, Interior.

ACTION: Notice.

SUMMARY: The Bureau of Indian Education (BIE) is announcing a public meeting of the Advisory Board for Exceptional Children (Advisory Board). The purpose of the meeting is to meet the mandates of the Individuals with Disabilities Education Act of 2004 (IDEA) for Indian children with disabilities.

DATES: Orientation training will be conducted for new Advisory Board members on Wednesday, September 20, 2017, from 8:30 a.m. to 4:30 p.m. Mountain Time. Thereafter, on Thursday, September 21, 2017, and Friday, September 22, 2017, all Advisory Board members will meet in-session from 8:30 a.m. to 4:30 p.m. Mountain Time.

ADDRESSES: The meeting will be held at the 1011 Indian School Rd. NW., Room 240, Albuquerque, NM 87104; telephone number (952) 851-5423.

FOR FURTHER INFORMATION CONTACT: Ms. Jennifer Davis, Designated Federal Officer, Bureau of Indian Education, 2600 North Central Avenue, Suite 800, Phoenix, Arizona 85004, telephone number (505) 259-4731.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meetings are open to the public.

The following items will be on the agenda:

• Introduction of Advisory Board members

• Report from Tony Dearman, Director, BIE Director's Office

• Report from Dr. Jeffrey Hamley Associate Deputy Director, BIE, Division of Performance and Accountability (DPA)

• Report from Donald Griffin, Supervisory Education Specialist, BIE, DPA/Special Education

• Board work on Priorities for 2017

• Public Comment (via conference call, Friday, September 22nd meeting only*).

• BIE Advisory Board—Advice and Recommendations

○ *During the September 22, 2017, meeting, time has been set aside for public comment via conference call from 11:30-12:00 p.m. Mountain Time. The call-in information is: Conference Number 1-888-417-0376, Passcode 1509140

Public Availability of Comments: Before including your address, phone number, email address, or other personal identifying information in your comment, you should be aware that your entire comment—including your personal identifying information—may be made publicly available at any time. While you can ask us in your comment to withhold your personal identifying information from public review, we cannot guarantee that we will be able to do so.

Authority: 5 U.S.C. Appendix 5; 20 U.S.C. 1400 et seq.

Dated: August 29, 2017.
Michael S. Black,
Acting Assistant Secretary—Indian Affairs.

[FR Doc. 2017-19110 Filed 9-8-17; 8:45 am]

BILLING CODE 4337-15-P